COMMISSION ON CIVIL RIGHTS

Notice of Public Meeting of the Tennessee Advisory Committee

AGENCY: U.S. Commission on Civil Rights.

ACTION: Notice of meeting.

SUMMARY: Notice is hereby given, pursuant to the provisions of the rules and regulations of the U.S. Commission on Civil Rights (Commission) and the Federal Advisory Committee Act that the Tennessee Advisory Committee will hold a public meeting on Friday, May 3 2019; 1:30 p.m. Eastern to discuss the Legal Financial Obligation (LFO) meeting transcript.

DATES: The meeting will be held on Friday, May 3, 2019, at 1:30 p.m. EST.

Public Call Information: Dial: 855-719-5012, Conference ID: 3861870.

FOR FURTHER INFORMATION CONTACT: Jeff Hinton, DFO, at 404-384-3017 or jhinton@usccr.gov.

SUPPLEMENTARY INFORMATION: Members of the public are invited to listen to the discussion and make comments during the open session. Written comments will be accepted until May 2, 2019 and may be mailed to the Regional Program Unit Office, U.S. Commission on Civil Rights, 230 S Dearborn, Suite 2120, Chicago, IL 60604. They may also be faxed to the Commission at (312) 353-8324 or may be emailed to the Jeff Hinton at jhinton@usccr.gov. Records of the meeting will be available via www.facadatabase.gov under the Commission on Civil Rights, Tennessee Advisory Committee link. Persons interested in the work of this Committee are directed to the Commission's website, http://www.usccr.gov.

Agenda

• Opening Remarks

• New Business: Discussion of Legal Financial Obligation (LFO) meeting transcript.

• Open Session

• Adjournment

Exceptional Circumstance: Pursuant to 41 CFR 102-3.150, the notice for this meeting is given less than 15 calendar days prior to the meeting because of the exceptional circumstances of the federal government shutdown.

Dated: April 29, 2019.
David Mussatt,
Supervisory Chief, Regional Programs Unit.

[FR Doc. 2019-09011 Filed 5-2-19; 8:45 am]

BILLING CODE P